DEPARTMENT OF THE INTERIOR

Fish and Wildlife Service

Notice of Availability of the Draft Bison and Elk Management Plan and Environmental Impact Statement

AGENCY: Fish and Wildlife Service, National Park Service, Interior.

ACTION: Notice of availability.

SUMMARY: The U.S. Fish and Wildlife Service and the National Park Service, U.S. Department of the Interior (DOI), as lead agencies, announce that the Draft Bison and Elk Management Plan (Plan) and Environmental Impact Statement (EIS) for the National Elk Refuge and Grand Teton National Park/John D. Rockefeller, Jr. Memorial Parkway (Grand Teton National Park) is available. This draft Plan/EIS was prepared pursuant to the National Wildlife Refuge System Administration Act (NWRS Improvement Act), as amended; the National Park Service Management Policies 2001; and the National Environmental Policy Act (NEPA). The draft Plan/EIS was prepared in cooperation and partnership with the U.S. Department of Agriculture Animal and Plant Health Inspection Service (APHIS); the U.S. Forest Service; the Bridger-Teton National Forest (BTNF); the Bureau of Land Management (BLM); and the State of Wyoming Game and Fish Department (WGFD). The draft Plan/EIS describes the U.S. Fish and Wildlife Service's and the National Park Service's proposal for management of the Jackson bison and elk populations within their respective jurisdictions for 15 years, beginning at the completion of a Record of Decision (ROD) on the final Plan/EIS. Six alternatives for the management of bison and elk populations in the National Elk Refuge and the Grand Teton National Park are considered in the draft Plan/EIS.

DATES: Written comments must be received at the postal or electronic address listed below on or before September 30, 2005.

ADDRESSES: To provide written comments or to obtain a copy of the draft Plan/EIS, please write to: Jackson Bison and Elk Management Planning Office, P.O. Box 510, Jackson, Wyoming 83001; telephone: 307-733-9212, or e-mail: bison/elk_planning@fws.gov.

FOR FURTHER INFORMATION CONTACT: For further information, contact Laurie Shannon, Planning Team Leader, Region 6, 134 Union Boulevard, Lakewood, Colorado 80228, telephone 303-236-4317. In addition, copies of the draft Plan/EIS may be downloaded from the project Web site: http://bisonandelkplan.fws.gov.

The draft Plan/EIS will be available for reading at the following main branch libraries: State of Wyoming: Albany County—Laramie; Fremont County—Dubois, Lander, and Riverton; Laramie County—Cheyenne; Lincoln County—Afton; Park County—Cody; Natrona County—Casper; Sheridan County—Sheridan; Sublette County—Pinedale and Big Piney; Sweetwater County—Rock Springs; and Teton County—Jackson and Alta. State of Colorado: Denver and Fort Collins. State of Idaho: Idaho Falls, Rexburg, Swan Valley and Victor. State of Montana: Bozeman, Livingston, Missoula, and Ennis. It will also be available at the following colleges and universities: State of Wyoming: Casper College Library, Casper; Central Wyoming College Library, Riverton; University of Wyoming Library, Laramie; Northwest College Library, Powell; Sheridan College Library, Sheridan; and Western Wyoming College Library, Rock Springs. State of Colorado: Colorado State University Library, Fort Collins. State of Montana: Montana State University Library, Bozeman; and the University of Montana Library, Missoula. State of Idaho: University of Idaho Library, Boise.

The U.S. Fish and Wildlife Service and the National Park Service will hold public hearings on the draft Plan/EIS and encourage interested persons and organizations to attend and provide comments at one of the meetings. The times and places of the meetings will be provided in a Planning Update to be mailed to agencies, organizations, and individuals on the mailing list; in notices in area newspapers; and on the project Web site.

SUPPLEMENTARY INFORMATION: The National Elk Refuge and Grand Teton National Park are located just north of Jackson, Wyoming. Together with the BTNF, they make up most of the southern half of the Greater Yellowstone Ecosystem. The National Elk Refuge comprises about 24,700 acres, the Grand Teton National Park comprises 309,995 acres, and the John D. Rockefeller Jr. Memorial Parkway is about 23,777 acres. The Jackson bison and elk herds make up one of the largest concentrations of free-ranging ungulates in North America. Currently, these herds total approximately 800 bison and 13,500 elk. The herds migrate across several jurisdictional boundaries, including Grand Teton National Park and southern Yellowstone National Park, BTNF, BLM resource areas, and State and private lands, before they winter in the BTNF and the National Elk Refuge. Due to the wide range of authorities and interests, including management of resident wildlife by the State of Wyoming on most federal lands, the U.S. Fish and Wildlife Service and the National Park Service have used a cooperative approach to management planning involving all of the associated Federal and State agencies and a broad range of organized and private interests.

A management plan (Jackson Bison Herd Long Term Management Plan and Environmental Assessment) was developed by the National Park Service and the U.S. Fish and Wildlife Service, in cooperation with the WGFD and the BTNF, for the Jackson bison herd, and finalized in September 1996. In 1998, a lawsuit was brought by the Fund for Animals (FFA) enjoining most federal management actions proposed in the 1996 plan. The court ruled that the controlled hunting of bison on federal lands, for population control purposes, could not be carried out until additional NEPA compliance was completed for those actions. The court also directed that additional NEPA compliance consider the effects of the supplemental winter-feeding of elk on the Jackson bison population in the National Elk Refuge.

The NWRS Improvement Act of 1997 requires that Comprehensive Conservation Plans be developed for all national wildlife refuges. At the National Elk Refuge, elk management-including supplemental winter-feeding-would make up the most significant activity in the CCP. In order to coordinate the NEPA compliance required for the National Elk Refuge under the NWRS Improvement Act, for the Grand Teton National Park under the National Park Service Management Policies of 2001, and for the FFA lawsuit, and because many management actions for one species affect both species, in 1999, the U.S. Fish and Wildlife Service and the National Park Service proposed this planning process.

Significant issues addressed in the draft Plan/EIS include: Bison and elk populations and their ecology; restoration of habitat and management of other species of wildlife; supplemental winter feeding operations of bison and elk; disease prevalence and transmission; recreational opportunities; cultural opportunities and western traditions and lifestyles; commercial operations; and the local and regional economy.

The U.S. Fish and Wildlife Service and the National Park Service, in cooperation with the WGFD and the other Federal agencies, developed six alternatives for the management of bison and elk. These include: Alternative 1—No Action; Alternative 2—Minimal Management of Habitat and Populations; Support Migration; Alternative 3—Restore Habitat, Support Migration, and Phase Back Supplemental Feeding; Alternative 4—Restore Habitat, Improve Forage, and Phase Back Supplemental Feeding; Alternative 5—Restore Habitat, Improve Forage and Continue Supplemental Feeding; and Alternative 6—Restore Habitat, Adaptively Manage Populations, and Phase Out Supplemental Feeding.

Alternative 4, the proposed action, strives to balance the major issues and stakeholder perspectives, identified during prescoping and public scoping, with the purposes, missions, and management policies of the U.S. Fish and Wildlife Service and the National Park Service. Assuming that the WGFD's herd objective of 11,029 had been met, and that higher numbers of elk would use the winter range, approximately 4,000-5,000 elk and up to 500 bison would winter in the National Elk Refuge, and 1,300-1,600 elk would summer in the Grand Teton National Park. The elk hunt in the National Elk Refuge, and the herd reductions in the Grand Teton National Park would continue. A bison hunt would be instituted in the National Elk Refuge. Supplemental feeding would take place only in above-average winters (estimated to occur in roughly 5 out of 10 years). The potential for disease outbreaks would be somewhat reduced, and WGFD personnel would be permitted to use Strain 19 to vaccinate elk.

After the review and comment period for this draft Plan/EIS, all comments will be analyzed and considered by the lead agencies. A final Plan/EIS will be prepared and published, and will include the substantive comments received and the lead agencies' responses to those comments. Changes made to the proposed action will also be identified in the final Plan/EIS. A ROD and final management plan will then be published.

All comments received from individuals on environmental impact statements become part of the official public record. Requests for such comments will be handled in accordance with the Freedom of Information Act, the Privacy Act, the Council on Environmental Quality's NEPA regulations (40 CFR 1506.6(f)), and other policies and procedures of the lead agencies and DOI.

Reviewers should provide their comments during the review period of the draft Plan/EIS. This enables the lead agencies to analyze and respond to the comments at one time and to use information acquired in the preparation of the final Plan/EIS, thus avoiding undue delay in the decision making process. Comments on the draft EIS should be specific and should address the adequacy of the plan, the impact statement, and the merits of the alternatives discussed (40 CFR 1503.3).

In the final Plan/EIS, the U.S. Fish and Wildlife Service will respond to all substantive comments. Comments are considered substantive if they:

• Question, with reasonable basis, the accuracy of the information in the document.

• Question, with reasonable basis, the adequacy of the environmental analysis.

• Present reasonable alternatives other than those presented in the EIS.

• Cause changes or revisions to the Bison and Elk Management Plan.

• Provide new or additional information relevant to the analysis.

Dated: July 13, 2005.
Ralph O. Morgenweck,
Regional Director, Region 6, Denver, CO.

[FR Doc. 05-14226 Filed 7-20-05; 8:45 am]

BILLING CODE 4310-55-P